DEPARTMENT OF COMMERCE

Submission for OMB Review; Comment Request

The Department of Commerce will submit to the Office of Management and Budget (OMB) for clearance the following proposal for collection of information under the provisions of the Paperwork Reduction Act (44 U.S.C. chapter 35).

Agency: International Trade Administration.

Title: Survey of Participating Companies in the United States-European Union and United States-Switzerland Safe Harbor Frameworks.

OMB Control Number: None.

Form Number(s): None.

Type of Request: Regular submission (new information collection).

Burden Hours: 343.

Number of Respondents: 1,030.

Average Hours per Response: 20 minutes.

Needs and Uses: The Office of Technology and Electronic Commerce in the Manufacturing and Services Unit of the International Trade Administration (ITA) administers the U.S.-European Union (EU) and U.S.-Swiss Safe Harbor Frameworks (Frameworks). These Frameworks allow U.S. companies to meet the requirements of the European Union's Data Protection Directive and the Swiss Federal Act on Data Protection, respectively. This is significant because the Frameworks ensure uninterrupted transfers of personal information worth billions of dollars in trade between the United States and the EU and Switzerland.

In line with the President's National Export Initiative, ITA is interested in gathering information from U.S. companies that use the U.S.-EU and U.S.-Swiss Safe Harbor Frameworks to better evaluate the programs and how they support U.S. exports. The information will be obtained via a survey using the questions in 76 FR 8337.

Affected Public: Business or other for-profit Organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov.

Written comments and recommendations for the proposed information collection should be sent within 30 days of publication of this notice to Wendy Liberante, OMB Desk Officer, number (202) 395-5167, or via the Internet at Wendy_L._Liberante@omb.eop.gov.

Dated: June 3, 2011.
Gwellnar Banks,
Management Analyst, Office of the Chief Information Officer.

[FR Doc. 2011-14217 Filed 6-8-11; 8:45 am]

BILLING CODE 3510-DR-P